DEPARTMENT OF COMMERCE

National Oceanic and Atmospheric Administration

[RTID 0648-XA732]

Pacific Fishery Management Council; Public Meeting

AGENCY: National Marine Fisheries Service (NMFS), National Oceanic and Atmospheric Administration (NOAA), Commerce.

ACTION: Notice of public meeting.

SUMMARY: The Ecosystem Subcommittee of the Pacific Fishery Management Council's (Pacific Council's) Scientific and Statistical Committee (SSC) will hold an online meeting to consult with the NMFS California Current Integrated Ecosystem Assessment (CCIEA) team on how COVID-19 impacts may affect its annual Ecosystem Status Report to the Pacific Council. The meeting is open to the public.

DATES: The SSC Ecosystem Subcommittee's online meeting will be held Tuesday, January 12, 2021, beginning at 9 a.m. Pacific Standard Time and continuing until 1 p.m. or until business for the day has been completed.

ADDRESSES: The SSC Ecosystem Subcommittee meeting will be an online meeting. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220.

FOR FURTHER INFORMATION CONTACT: Mr. John DeVore, Staff Officer, Pacific Fishery Management Council; telephone: (503) 820-2413.

SUPPLEMENTARY INFORMATION: The purpose of the SSC Ecosystem Subcommittee meeting is to discuss impacts of the COVID-19 pandemic with the CCIEA team and how such impacts might affect its annual Ecosystem Status Report to the Pacific Council. The topics to be discussed are:

• Adjustments to forage time series analyses to ensure consistency with previous years' data;

• Environmental driver: Biological response thresholds analysis; and

• Groundfish distribution, port availability shifts, and impacts to catch portfolios.

The SSC Ecosystem Subcommittee members' role will be development of recommendations and reports for consideration by the SSC and the Pacific Council at the March 2021 Pacific Council meeting.

Although nonemergency issues not contained in the meeting agendas may be discussed, those issues may not be the subject of formal action during this meeting. Action will be restricted to those issues specifically listed in this notice and any issues arising after publication of this notice that require emergency action under Section 305(c) of the Magnuson-Stevens Fishery Conservation and Management Act, provided the public has been notified of the intent of the SSC Ecosystem Subcommittee to take final action to address the emergency.

Special Accommodations

Requests for sign language interpretation or other auxiliary aids should be directed to Mr. Kris Kleinschmidt, (503) 820-2412, at least 10 days prior to the meeting date.

Authority: 16 U.S.C. 1801 et seq.

Dated: December 17, 2020.
Rey Israel Marquez,
Acting Deputy Director, Office of Sustainable Fisheries, National Marine Fisheries Service.

[FR Doc. 2020-28293 Filed 12-22-20; 8:45 am]

BILLING CODE 3510-22-P